DEPARTMENT OF ENERGY

10 CFR Part 1023

48 CFR Parts 901, 902, 903, 904, 906, 907, 908, 909, 911, 914, 915, 916, 917, and 952

RIN 1991-AB81

(General Provisions) Contract Appeals and the Acquisition Regulation: General, Acquisition Planning, and Contracting Methods and Contract Types

Correction

In rule document 2011-1320 appearing on pages 7685-7694 in the issue of Friday, February 11, 2011, make the following correction:

915.404 [Table Corrected]

On page 7693, in the table, in the last row, in the column labeled “Add”, “ “DOE to” ” should read “ “DOE to—” ”.

[FR Doc. C1-2011-1320 Filed 2-24-11; 8:45 am]

BILLING CODE 1505-01-D